DEPARTMENT OF JUSTICE

Notice of Lodging of Consent Decree Pursuant to the Clean Water Act

In accordance with 28 CFR 50.7, 38 Fed. Reg. 19029, notice is hereby given that on March 9, 2001, the Second Modified Consent Decree in United States and Commonwealth of Massachusetts v. Lynn Water and Sewer Commission, Civil Action No. 76-2184-RGS, was lodged with the United States District Court for the District of Massachusetts. In this action, the United States and the Commonwealth of Massachusetts seek compliance by the Lynn Water and Sewer Commission (“LWSC”) with the Clean Water Act (“CWA”), 33 U.S.C. 1251, et seq., in regard to combined sewer overflows from several of its outfalls.

The Second Modified Consent Decree provides that LWSC will implement sewer separation for the areas tributary to its outfalls 004, 005, and 006, instead of constructing the consolidation conduit and storage facility contemplated under the existing consent decree. Sewer separation is to be completed for the areas tributary to outfall 006 by the end of 2003, for the areas tributary to outfall 005 by the end of 2006, and for the areas tributary to outfall 004 by the end of 2009. The combined sewer overflow control strategy for LWSC's other CSO outfall, outfall 003, continues to be sewer separation as in the existing consent decree and is to be completed by the end of 2003.

The Department of Justice will receive comments relating to the proposed Second Modified Consent Decree for a period of thirty (30) days from the date of this publication. Comments should be addressed to the Assistant Attorney General, Environment and Natural Resources Division, Department of Justice, P.O. Box 7611, Washington, D.C. 20044, and should refer to United States and Commonwealth of Massachusetts v. Lynn Water and Sewer Commission, D.J. Ref. 90-5-1-1-545B.

The proposed consent decree may be examined at the office of the United States Attorney, Suite 9200, 1 Courthouse Way, Boston, Massachusetts 02110, and at the Region I office of the Environmental Protection Agency, One Congress Street, Suite 1100, Boston, Massachusetts 02114. A copy of the proposed consent decree may also be obtained by mail from the Department of Justice Consent Decree Library, P.O. Box 7611, Washington, D.C. 20044. In requesting a copy, please enclose a check (there is a 25 cent per page reproduction cost) in the amount of $7.75 payable to the “Consent Decree Library.”

Ronald G. Gluck,
Assistant Chief, Environmental Enforcement Section, Environment & Natural Resources Division.

[FR Doc. 01-7674 Filed 3-28-01; 8:45 am]

BILLING CODE 4410-15-M